FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www2.fmc.gov/agreements/) or by contacting the Office of Agreements at (202)-523-5793 or tradeanalysis@fmc.gov.

Agreement No.; 011314-002.

Title: CSAV/Trans Global Cooperative Working Agreement.

Parties: Compania Sud Americana de Vapores S.A. and Trans Global Shipping NV.

Filing Party: Walter H. Lion Esq.; McLaughlin & Stern, LLP; 260 Madison Avenue, New York, New York 10016.

Synopsis: The amendment changes the party Swordfish Shipping Inc. to Trans Global Shipping NV and changes the agreement's termination date.

Agreement No.: 012194-002.

Title: The G6 Alliance Agreement.

Parties: American President Lines, Ltd. and APL Co. Pte, Ltd. (Operating as one Party); Hapag-Lloyd AG; Hyundai Merchant Marine Co., Ltd.; Mitsui O.S.K. Lines, Ltd.; Nippon Yusen Kaisha; and Orient Overseas Container Line, Limited and Orient Overseas Container Line Inc. (Operating as one party).

Filing Party: David F. Smith, Esq.; Cozen O'Connor; 1627 I Street NW. Suite 1100; Washington, DC 20006.

Synopsis: The amendment would expand the geographic scope to include the transpacific trade to the U.S. West Coast and the transatlantic trade to all coasts, and make other corresponding revisions.

Agreement No.: 012234.

Title: NYKCool/Trans Global Shipping Space Charter Agreement.

Parties: NYKCool AB and Trans Global Shipping NV.

Filing Party: David F. Smith, Esq.; Cozen O'Connor; 1627 I Street NW. Suite 1100; Washington, DC 20006.

Synopsis: The Agreement authorizes the parties to share space on each other's vessels and reach related arrangements in connection with the carriage of cargo in the trade between ports in Chile and U.S. Atlantic Coast ports.

Agreement No.: 012235.

Title: NYKCool/Trans Global Shipping/CSAV West Coast Agreement.

Parties: CSAV Sud Americana de Vapres S.A.; NYKCool AB; and Trans Global Shipping NV.

Filing Party: David F. Smith, Esq.; Cozen O'Connor; 1627 I Street NW. Suite 1100; Washington, DC 20006.

Synopsis: The Agreement authorizes the parties to cooperate with respect to vessel services, share space on each other's vessels, and reach related arrangements in connection with the carriage of cargo in the trade between ports in Chile and U.S. West Coast ports.

Agreement No.: 012236.

Title: Swordfish Shipping Inc./Trans Global Shipping Space Charter Agreement.

Parties: Swordfish Shipping Inc. and Trans Global Shipping NV.

Filing Party: Walter H. Lion, Esq.; McLaughlin & Stern, LLP; 260 Madison Avenue; New York, NY 10016.

Synopsis: The Agreement authorizes the parties to charter space to each other in the trade ports in Chile and United States Atlantic ports.

Agreement No.: 201159-001.

Title: Memorandum of Settlement of Local Conditions in the Port of New York and New Jersey.

Parties: New York Shipping Association, Inc. and the International Longshoremen's Association.

Filing Parties: William M. Spelman; The Lambos Firm, LLC; 303 South Broadway, Suite 410; Tarrytown, NY 10591; and Andre Mazzola; Marrinan & Mazzola Mardon P.C.; 26 Broadway, 17 Floor; New York, NY 10004.

Synopsis: The Agreement establishes local conditions for the Port of New York-New Jersey covering the period from October 1, 2012 through September 30, 2018.

By Order of the Federal Maritime Commission.
Dated: December 6, 2013.
Rachel E. Dickon,
Assistant Secretary.

[FR Doc. 2013-29563 Filed 12-10-13; 8:45 am]

BILLING CODE 6730-01-P